DEPARTMENT OF COMMERCE

National Oceanic and Atmospheric Administration

RIN 0648-XC179

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee to consider actions affecting New England fisheries in the exclusive economic zone (EEZ). Recommendations from this group will be brought to the full Council for formal consideration and action, if appropriate.

DATES: This meeting will be held on Wednesday, September 12, 2012 at 9 a.m. and Thursday, September 13, 2012 at 8:30 a.m.

ADDRESSES: The meeting will be held at the Hotel Providence, 139 Mathewson Street, Providence, RI 02903; telephone: (401) 861-8000; fax: (401) 861-8002.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: On Wednesday, September 12, the Scientific and Statistical Committee (SSC) will review Scallop Plan Development Team projections and develop acceptable biological catch (ABC) recommendations for fishing years 2013 and 2014. In addition, they will provide input to the Terms of Reference for a review of scallop survey methods to be conducted by the NOAA/NMFS Northeast Fisheries Science Center.

On Thursday, September 13, the SSC will continue to review groundfish stock assessments and develop ABC recommendations for fishing years 2013 through 2015 for Gulf of Maine haddock, Cape Cod/Gulf of Maine yellowtail flounder, Southern New England/Mid-Atlantic yellowtail flounder, Georges Bank yellowtail flounder, witch flounder, plaice, and Georges Bank/Gulf of Maine white hake.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: August 21, 2012.
William D. Chappell,
Acting Deputy Director, Office of Sustainable Fisheries, National Marine Fisheries Service.

[FR Doc. 2012-20936 Filed 8-23-12; 8:45 am]

BILLING CODE 3510-22-P